DEPARTMENT OF COMMERCE

National Oceanic and Atmospheric Administration

[I.D. 060204G]

Endangered Species; File No. 1236

AGENCY: National Marine Fisheries Service (NMFS), National Oceanic and Atmospheric Administration (NOAA), Commerce.

ACTION: Receipt of application for modification.

SUMMARY: Notice is hereby given that Virginia Institute of Marine Science (VIMS) (Gloucester Point, VA 23062) [Dr. John Musick, Principal Investigator], has requested a modification to scientific research Permit No. 1236.

DATES: Written, telefaxed, or e-mail comments must be received on or before July 14, 2004.

ADDRESSES: The modification request and related documents are available for review upon written request or by appointment in the following offices:

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1236.

FOR FURTHER INFORMATION CONTACT: Carrie Hubard or Patrick Opay, (301)713-2289.

SUPPLEMENTARY INFORMATION: The subject modification to Permit No. 1236, issued on October 10, 2000 (65 FR 62709) and modified on April 17, 2001 (66 FR 21912) is requested under the authority of the Endangered Species Act of 1973, as amended (16 U.S.C. 1531 et seq.) and the regulations governing the taking, importing, and exporting of endangered and threatened species (50 CFR 222-226).

Permit No. 1236 authorizes the permit holder to conduct two sea turtle research projects, one in the Chesapeake Bay and coastal waters of Virginia and the other in the U.S. Virgin Islands (USVI). The USVI project focuses on the habitat utilization of juvenile hawksbill (Eretmochelys imbricata) turtles at the Buck Island Reef National Monument off St. Croix. The Chesapeake Bay project studies the inter-nesting movements of sea turtles in Virginia via satellite telemetry and to assess the effects of beach replenishment on turtle activities. Both studies capture, handle, tag (PIT, flipper, satellite, radio and acoustic), collect biological samples (via humeral bone biopsy, blood samples and laparoscopy) and release loggerhead (Caretta caretta), green (Chelonia mydas), Kemp's ridley (Lepidochelys kempii), hawksbill and leatherback turtles (Dermochelys coriacea). Permit No. 1236 expires on July 31, 2005.

The permit holder requests authorization to hold a maximum of 20 of the loggerhead turtles that are already subject animals in the Chesapeake Bay project for up to one week to study turtle interactions with whelk pots. In an effort to reduce entanglement by sea turtles in the whelk pot fishery, VIMS proposes to test the ways in which turtles interact with various whelk pot designs. Healthy turtles will be transported to VIMS and maintained in indoor tanks until testing. During experimentation, a single turtle will be placed in an outdoor tank with one of the whelk pot designs, rigged and baited to imitate the fishery protocols. Observers will be present at all times to record turtle behavior. If a turtle becomes entangled for more than five minutes, the observer will disentangle the animal and the experiment will be concluded for the day. Turtles will have a day's rest between experiments and thus will interact with three designs over the course of a week. Turtles will be fed, examined, and monitored by a staff veterinarian. Once the experiment is complete turtles will be released. Currently VIMS is authorized to sample 100 loggerheads annually. The twenty turtles used in the whelk pot study will be a subset of those turtles. There is no increase in the number of loggerhead turtles captured under the permit. This modification would be valid through the life of the permit.

Dated: June 4, 2004.
Patrick Opay,
Acting Chief, Permits, Conservation and Education Division, Office of Protected Resources, National Marine Fisheries Service.

[FR Doc. 04-13201 Filed 6-10-04; 8:45 am]

BILLING CODE 3510-22-S